DEPARTMENT OF COMMERCE

Foreign-Trade Zones Board

[B-52-2021]

Foreign-Trade Zone (FTZ) 265—Conroe, Texas; Notification of Proposed Production Activity; Galdisa USA (Peanut Products); Conroe, Texas

The City of Conroe, Texas, grantee of FTZ 265, submitted a notification of proposed production activity to the FTZ Board on behalf of Galdisa USA (Galdisa), located in Conroe, Texas. The notification conforming to the requirements of the regulations of the FTZ Board (15 CFR 400.22) was received on June 30, 2021.

The Galdisa facility is located within FTZ 265. The facility is used for the production of peanut products. Galdisa is requesting export-only FTZ authority to produce peanut butter, roasted peanuts, peanut granules, peanut paste, and blanched peanuts. Pursuant to 15 CFR 400.14(b), FTZ activity would be limited to the specific foreign-status materials and specific finished products described in the submitted notification (as described below) and subsequently authorized by the FTZ Board.

Production under FTZ procedures could exempt Galdisa from customs duty payments on the foreign-status components used in the company's export production of peanut products. Customs duties also could possibly be deferred or reduced on foreign-status production equipment. If the proposal were approved, the foreign-status sugar and peanuts used in the FTZ production for export would not be subject to quota(s).

The components and materials sourced from abroad include: Raw peanuts in shell; beet sugar; cane sugar; sugar (not raw); salt; crude peanut oil; non-crude peanut oil; raw peanuts shelled; and, blanched peanuts (duty rate ranges from free to 163.8% (ex-quota rate)). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is August 23, 2021.

A copy of the notification will be available for public inspection in the “Reading Room” section of the Board's website, which is accessible via www.trade.gov/ftz.

For further information, contact Diane Finver at Diane.Finver@trade.gov or (202) 482-1367.

Dated: July 8, 2021.
Andrew McGilvray,
Executive Secretary.

[FR Doc. 2021-14954 Filed 7-13-21; 8:45 am]

BILLING CODE 3510-DS-P